DEPARTMENT OF TRANSPORTATION

Office of the Secretary

Supplemental Information From U.S. Carriers Required To Monitor Industry Development and Recovery

AGENCY: Office of the Secretary, DOT.

SUMMARY: In accordance with the Paperwork Reduction Act of 1995 (44 U.S.C. chapter 35, as amended), this notice announces the Department of Transportation's (DOT) intention to request the extension of a previously approved collection.

DATES: Comments on this notice must be received June 17, 2002.

ADDRESSES: Comments should be directed to the Assistant General Counsel For Regulation and Enforcement, Office of the Secretary, U.S. Department of Transportation, 400 Seventh Street, SW., Washington, DC 20590.

FOR FURTHER INFORMATION CONTACT: Robert C. Ashby, Deputy Assistant General Counsel For Regulation and Enforcement, Office of the Secretary, U.S. Department of Transportation, 400 Seventh Street, SW., Washington, DC 20590, (202) 366-9306.

SUPPLEMENTARY INFORMATION: Title: Supplemental Information from U.S. Carriers Required to Monitor Industry Development and Recovery.

OMB Control Number: 2105-0544.

Type of Request: Authority for the currently approved data collection expired on February 28, 2002. By this notice, the Department is requesting an extension until February 28, 2003.

Abstract: As a consequence of the terrorist attacks on the United States on September 11, 2001, the U.S. commercial aviation industry suffered severe financial losses. These losses placed the financial survival of many air carriers at risk. Acting rapidly to preserve the continued viability of the U.S. air transportation system, President Bush sought and Congress enacted the Air Transportation Safety and System Stabilization Act (“the Act”), Public Law 107-42.

In order to monitor developments in the recovery of the airline industry and to evaluate various options for financial and other assistance, we believe that supplemental ad hoc information submitted on a weekly basis by the airlines is critically necessary. This is because information and data currently routinely submitted by the airlines to the Department has substantial time lags.

The Department specifically requires copies (printed or electronic) of routine reports already being prepared by the airlines which cover the following issues, or any other issue that the airlines believe would provide useful information: Financial Data (including year/year, week/week or similar relevant benchmarks) Operations Data (including year/year, week/week or similar relevant benchmarks) Traffic and Fare Data (including year/year, week/week or similar relevant benchmarks) Bookings & Cancellations Data (including year/year, week/week or similar relevant benchmarks).

Respondents: U. S. air carriers.

Estimated Number of Respondents: 70/185.

Estimated Total Burden on Respondents: 1050/1110.

Comments are invited on: Whether the proposed collection of Information is necessary for the proper performance of the functions of the Department, including whether the information will have practical utility; (b) the accuracy of the Department's estimate of the burden of the proposed information collection; (c) ways to enhance the quality, utility, and clarity of the information to be collected, and (d) ways to minimize the burden of the collection of information of respondents, including the use of automated collection techniques or other forms of information technology.

All responses to this notice will be summarized and included in the request for OMB approval. All comments will also become a matter of public record.

Issued in Washington DC, on April 9, 2002.
Neil R. Eisner,
Assistant General Counsel for Regulation and Enforcement.

[FR Doc. 02-9416 Filed 4-17-02; 8:45 am]

BILLING CODE 4910-62-P